DEPARTMENT OF JUSTICE

[CPCLO Order No. 004-2016]

Privacy Act of 1974; Systems of Records; Extension of Comment Period

AGENCY: Federal Bureau of Investigation, United States Department of Justice.

ACTION: Notice of a modified system of records notice; extension of comment period.

SUMMARY: The Department of Justice (Department or DOJ), Federal Bureau of Investigation (FBI), is extending the comment period for its proposal to modify an existing FBI system of records notice titled, “Fingerprint Identification Records System (FIRS),” JUSTICE/FBI-009, which would be retitled, “The Next Generation Identification (NGI) System,” JUSTICE/FBI-009, published in the Federal Register on May 5, 2016 (81 FR 27284). The original comment period is scheduled to expire on June 6, 2016. The Department is now extending the time period for public comments by 30 days. The updated comment period is scheduled to expire on July 6, 2016. This action will allow interested persons additional time to analyze the proposal and prepare their comments.

DATES: Comments on the notice published May 5, 2016 (81 FR 27284) must be submitted on or before July 6, 2016.

ADDRESSES: Submit comments to the Department of Justice, ATTN: Privacy Analyst, Office of Privacy and Civil Liberties, Department of Justice, National Place Building, 1331 Pennsylvania Avenue NW., Suite 1000, Washington, DC 20530, or by facsimile at 202-307-0693. To ensure proper handling, please reference either this CPCLO Order No., or the CPCLO Order No. from the notice of modified system of records notice (CPCLO Order No. 002-2016) on your correspondence.

FOR FURTHER INFORMATION CONTACT: Roxane M. Panarella, Criminal Justice Information Services Division (CJIS), Privacy Attorney, 1000 Custer Hollow Road, Clarksburg WV 26306.

SUPPLEMENTARY INFORMATION: On May 5, 2016, the Department requested comments on its proposal to modify an existing FBI system of records notice titled, “Fingerprint Identification Records System (FIRS),” JUSTICE/FBI-009, and its proposal to amend the Department's Privacy Act regulations by establishing an exemption for records in this system of records from certain provisions of the Privacy Act pursuant to 5 U.S.C. 552a(j) and (k).

Both the notice of a modified system of records notice and notice of proposed rulemaking for this system of records originally provided that comments must be received by June 6, 2016. The Department has received requests to extend these comment periods. The Department believes that extending the comment periods would be appropriate in order to provide the public additional time to consider and comment on the proposals addressed in these notices. Therefore, the Department is extending both public comment periods for 30 days, until July 6, 2016. Elsewhere in the Federal Register, the Department is extending the comment period for the accompanying notice of proposed rulemaking.

Dated: June 1, 2016.
Erika Brown Lee,
Chief Privacy and Civil Liberties Officer, U.S. Department of Justice.

[FR Doc. 2016-13353 Filed 6-3-16; 8:45 am]

BILLING CODE 4410-02-P